DEPARTMENT OF STATE

[Public Notice 11043]

Notice of Public Meeting for International Maritime Organization Sub-Committee Meeting

The Department of State will conduct an open meeting at 11:00 a.m. on Wednesday, March 11, in Room 7P15-01, United States Coast Guard Headquarters, 2703 Martin Luther King, Jr. Ave. SE, Washington, DC 20593-7213. The primary purpose of the meeting is to prepare for the 107th session of the International Maritime Organization's (IMO) Legal Committee to be held at the IMO Headquarters, United Kingdom, March 16-20, 2020.

The agenda items to be considered include:

—Facilitation of the entry into force and harmonized interpretation of the 2010 HNS Protocol

—Provision of financial security in case of abandonment of seafarers

—Fair treatment of seafarers in the event of a maritime accident

—Measures to prevent unlawful practices associated with the fraudulent registration and fraudulent registries of ships

—Regulatory scoping exercise and gap analysis of conventions emanating from the Legal committee with respect to Maritime Autonomous Surface Ships (MASS)

—Unified Interpretation on the test for breaking the owner's right to limit liability under the IMO conventions

—Piracy

—Any other business

Members of the public may attend this meeting up to the seating capacity of the room. Upon request to the meeting coordinator, members of the public may also participate via teleconference, up to the capacity of the teleconference phone line. To facilitate the building security process, request the teleconference call information, and to request reasonable accommodation, those who plan to attend should contact the meeting coordinator, Stephen Hubchen, by email at Stephen.k.hubchen@uscg.mil, by phone at (202) 372-1198, or in writing at 2703 Martin Luther King Jr. Ave. SE, Stop 7509, Washington, DC 20593-7509 not later than March 4, 2020, 4 business days prior to the meeting. Requests made after March 4, 2020 might not be able to be accommodated, and same day requests will not be accommodated due to the building's security process. Please note that due to security considerations, two valid, government issued photo identifications must be presented to gain entrance to the Coast Guard Headquarters. Coast Guard Headquarters is accessible by taxi, public transportation, and privately owned conveyance (upon request). In the case of inclement weather where the U.S. Government is closed or delayed, a public meeting may be conducted virtually. The meeting coordinator will confirm whether the virtual public meeting will be utilized. Members of the public can find out whether the U.S. Government is delayed or closed by visiting www.opm.gov/status/. Additional information regarding this and other IMO public meetings may be found at: www.uscg.mil/imo.

Jeremy M. Greenwood,
Coast Guard Liaison Officer, Office of Ocean and Polar Affairs, Department of State.

[FR Doc. 2020-03478 Filed 2-20-20; 8:45 am]

BILLING CODE 4710-09-P